DEPARTMENT OF LABOR

Employment and Training Administration

[TA-W-63,458]

Excello Engineered Systems, Macedonia, OH; Notice of Termination of Investigation

Pursuant to Section 221 of the Trade Act of 1974, as amended, an investigation was initiated on June 2, 2008 in response to a worker petition filed by a company official on behalf of workers of Excello Engineered Systems, Macedonia, Ohio.

The petitioner has requested that the petition be withdrawn. Consequently, the investigation has been terminated.

Signed at Washington, DC, this 8th day of July 2008.
Richard Church,
Certifying Officer, Division of Trade Adjustment Assistance.

[FR Doc. E8-16080 Filed 7-14-08; 8:45 am]

BILLING CODE 4510-FN-P